DEPARTMENT OF HOMELAND SECURITY

Federal Emergency Management Agency

[Docket ID: FEMA-2016-0004; OMB No. 1660-0098]

Agency Information Collection Activities: Proposed Collection; Comment Request; Citizen Corps Council Registration

AGENCY: Federal Emergency Management Agency, DHS.

ACTION: Notice.

SUMMARY: The Federal Emergency Management Agency (FEMA), as part of its continuing effort to reduce paperwork and respondent burden, invites the general public and other Federal agencies to take this opportunity to comment on a revision of a currently approved information collection. In accordance with the Paperwork Reduction Act of 1995, this notice seeks comments concerning the online registration process for Citizen Corps Councils and Community Emergency Response Team programs.

DATES: Comments must be submitted on or before April 11, 2016.

ADDRESSES: To avoid duplicate submissions to the docket, please use only one of the following means to submit comments:

(1) Online. Submit comments at www.regulations.gov under Docket ID FEMA-2016-0004. Follow the instructions for submitting comments.

(2) Mail. Submit written comments to Docket Manager, Office of Chief Counsel, DHS/FEMA, 500 C Street SW., 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Steven (Tyler) Krska, Emergency Management Specialist, FEMA, PNP, Individual and Community Preparedness Division, 202-786-0947 for additional information. You may contact the Records Management Division for copies of the proposed collection of information at email address: FEMA-Information-Collections-Management@fema.dhs.gov.

SUPPLEMENTARY INFORMATION: Citizen Corps was launched as a Presidential Initiative, Executive Order 13254, in 2002 with a mission to harness the power of every individual through education, training, and volunteer service to make communities safer, stronger, and better prepared for the threats of terrorism, crime, public health issues, and disasters of all kinds. Citizen Corps is FEMA's grassroots strategy to strengthen collaboration between government and community leaders from all sectors to engage the full community in preparedness, planning, mitigation, response, and recovery. The Community Emergency Response Team Program offers training that prepares people to help themselves, their families and their neighbors in the event of a disaster in their community.

FEMA's Individual and Community Preparedness Division, which administers Citizen Corps and the Community Emergency Response Team program nationally, would like to revise its online information collection process and forms by which local, tribal and territorial Councils' and Community Emergency Response Teams submit profiles via the national Web site. The Citizen Corps Council registration form will allow FEMA and State personnel to ensure that prospective Councils/CERT's have the support of the appropriate government officials in their area, ensure a dedicated coordinator is assigned to the Council, and will provide an efficient way to track the effectiveness of the nationwide network of Councils and CERT's. Approved registration of a Council or Community Emergency Response Team program allows them to be recognized as official entities; become eligible for Homeland Security grant funding; allows for the coordination of preparedness and emergency management activities among other groups associated with Citizen Corps; promote their local Councils to the public and become a part of the Citizen Corps national directory of Councils; and receive important updates and messages from the national office. The Citizen Corps Council and Community Emergency Response Team registries support the mission of FEMA's Individual and Community Preparedness Division and Citizen Corps, to help achieve greater community resiliency nationwide. This continuing registration process will allow the Individual and Community Preparedness Division to collect information that is more usable and provide a more efficient way to track the effectiveness of the nationwide network of Councils and CERT's.

Collection of Information

Title: Citizen Corps Council Registration.

Type of Information Collection: Revision of a currently approved information collection.

OMB Number: 1660-0098.

FEMA Forms: FEMA Form 008-0-25, Citizen Corps Council Registration.

Abstract: FEMA's Community Preparedness Division would like to revise a currently approved collection for its registration of State, local, Tribal and territorial Councils and Community Emergency Response Teams. The registration process allows for new Councils to submit information on the Council or CERT to the State Citizen Corps Program Manager for approval. The revised registration process will allow for the collection of more valuable information and the tool is more user-friendly for Citizen Corps Councils and CERT's.

Affected Public: State, local or Tribal Government.

Number of Respondents: 3,900.

Number of Responses: 3,900.

Estimated Total Annual Burden Hours: 3,900 hours.

Estimated Cost: The estimated annual cost to respondents for the hour burden is $93,249.00. There are no annual costs to respondents operations and maintenance costs for technical services. There is no annual start-up or capital costs. The cost to the Federal Government is $378,690.00.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 3, 2016.
Richard W. Mattison,
Records Management Program Chief, Mission Support, Federal Emergency Management Agency, Department of Homeland Security.

[FR Doc. 2016-02640 Filed 2-9-16; 8:45 am]

BILLING CODE 9110-21-P